DEPARTMENT OF HOMELAND SECURITY

U.S. Customs and Border Protection

Notice of Implementation of Additional Duties on Products of India Pursuant to the President's Executive Order 14329, Addressing Threats to the United States by the Government of the Russian Federation

AGENCY: U.S. Customs and Border Protection (CBP), Department of Homeland Security.

ACTION: Notice.

SUMMARY: To effectuate the President's Executive Order 14329 of August 6, 2025 (Addressing Threats to the United States by the Government of the Russian Federation), which imposed a specified rate of duty on imports of articles that are products of India, the Secretary of Homeland Security has determined that appropriate action is needed to modify the Harmonized Tariff Schedule of the United States (HTSUS) as set out in the Annex to this notice.

DATES: The duties set out in the Annex to this document are effective with respect to products of India that are entered for consumption, or withdrawn from warehouse for consumption, on or after 12:01 a.m. eastern daylight time on August 27, 2025.

FOR FURTHER INFORMATION CONTACT: Brandon Lord, Executive Director, Trade Policy and Programs, Office of Trade, U.S. Customs and Border Protection, (202) 325-6432 or by email at traderemedy@cbp.dhs.gov. C. Shane Campbell, Acting Executive Director, Cargo and Conveyance Security, Office of Field Operations, U.S. Customs and Border Protection, (202) 344-3401 or by email at traderemedy@cbp.dhs.gov.

SUPPLEMENTARY INFORMATION: Executive Order 14066 of March 8, 2022 (Prohibiting Certain Imports and New Investments With Respect to Continued Russian Federation Efforts To Undermine the Sovereignty and Territorial Integrity of Ukraine), expanded the scope of the national emergency declared in Executive Order 14024 of April 15, 2021 (Blocking Property With Respect To Specified Harmful Foreign Activities of the Government of the Russian Federation), to include the actions taken against Ukraine by the Government of the Russian Federation. To address that unusual and extraordinary threat to the national security and foreign policy of the United States, Executive Order 14066 prohibited, among other things, the importation into the United States of certain products of Russian Federation origin, including crude oil; petroleum; and petroleum fuels, oils, and products of their distillation.

On August 6, 2025, after considering additional information received from various senior officials on, among other things, the actions of the Government of the Russian Federation with respect to the situation in Ukraine, the President found that the national emergency described in Executive Order 14066 continues and that the actions and policies of the Government of the Russian Federation continue to pose an unusual and extraordinary threat to the national security and foreign policy of the United States.

To deal with the national emergency described in Executive Order 14066, pursuant to the International Emergency Economic Powers Act (50 U.S.C. 1701 et seq.) (IEEPA), the National Emergencies Act (50 U.S.C. 1601 et seq.), section 604 of the Trade Act of 1974, as amended (19 U.S.C. 2483), and section 301 of title 3, United States Code, the President issued Executive Order 14329 on August 6, 2025, in which he determined that it is necessary and appropriate to impose an additional ad valorem rate of duty of 25 percent on imports of articles of India, which is directly or indirectly importing Russian Federation oil.¹ In the President's judgment, imposing tariffs, as described below, in addition to maintaining the other measures taken to address the national emergency described in Executive Order 14066, will more effectively deal with the national emergency described in Executive Order 14066.

¹ The terms “Russian Federation oil” and “indirectly importing” are defined in section 7 of Executive Order 14329.

Executive Order 14329 directed the Secretary of Homeland Security to determine and implement the necessary modifications to the Harmonized Tariff Schedule of the United States (HTSUS), consistent with law, in order to effectuate the Executive Order.

In order to implement the rate of duty imposed by Executive Order 14329, effective on 12:01 a.m. eastern daylight time on August 27, 2025, subchapter III of chapter 99 of the HTSUS is modified by the Annex to this notice.

Products of India, except those set forth in section 3 of Executive Order 14329, that are entered for consumption, or withdrawn from warehouse for consumption, on or after 12:01 a.m. eastern daylight time on August 27, 2025, will be subject to the additional ad valorem rate of duty provided for in new HTSUS heading 9903.01.84. Products of India shall not be subject to such additional duty if they (1) were loaded onto a vessel at the port of loading and in transit on the final mode of transit prior to entry into the United States before 12:01 a.m. eastern daylight time on August 27, 2025; (2) are entered for consumption, or withdrawn from warehouse for consumption, before 12:01 a.m. eastern daylight time on September 17, 2025; and (3) the importer certifies to CBP that the products qualify for this in-transit exception by declaring new HTSUS heading 9903.01.85 as described in the Annex to this notice.

Products of India that are encompassed by 50 U.S.C. 1702(b) will not be subject to the additional ad valorem duty provided for in new HTSUS heading 9903.01.84, but such qualifying products, other than products for personal use included in accompanied baggage of persons arriving in the United States, must be declared and entered under new HTSUS heading 9903.01.88 or new HTSUS heading 9903.01.89. Specifically, new HTSUS heading 9903.01.88 covers products encompassed by 50 U.S.C. 1702(b)(2) and new HTSUS heading 9903.01.89 covers products encompassed by 50 U.S.C. 1702(b)(3).

The ad valorem duty provided for in new HTSUS heading 9903.01.84 applies in addition to all other applicable duties, taxes, fees, exactions, and charges, unless subject to existing or future actions under section 232 of the Trade Expansion Act of 1962, in which case the ad valorem duty imposed in Executive Order 14329 shall not apply.

The ad valorem duty imposed in section 2 of Executive Order 14329 shall not apply to articles that are set forth in Annex II to Executive Order 14257 of April 2, 2025 (Regulating Imports With a Reciprocal Tariff To Rectify Trade Practices That Contribute to Large and Persistent Annual United States Goods Trade Deficits), as amended, but such products of India must be declared and entered under new HTSUS heading 9903.01.86. However, for products that are not included in Annex II to Executive Order 14257, as amended, the ad valorem duty imposed in section 2 of Executive Order 14329 shall apply in addition to the ad valorem duty imposed in Executive Order 14257, as amended, when applicable pursuant to the terms of Executive Order 14257.

Articles that are products of India subject to the ad valorem duty imposed in section 2 of Executive Order 14329, except those that are eligible for admission to a foreign trade zone under “domestic status” as defined in 19 CFR 146.43, and are admitted into a United States foreign trade zone on or after 12:01 a.m. eastern daylight time on August 27, 2025, must be admitted as “privileged foreign status” as defined in 19 CFR 146.41. Such articles will be subject, upon entry for consumption, to the duties imposed by Executive Order 14329 and the rates of duty related to the classification under the applicable HTSUS subheading in effect at the time of admission into the United States foreign trade zone.

Kristi Noem,
Secretary of Homeland Security.

Annex

To Modify Chapter 99 of the Harmonized Tariff Schedule of the United States

1. Effective with respect to goods entered for consumption, or withdrawn from warehouse for consumption, on or after 12:01 a.m. eastern daylight time on August 27, 2025, subchapter III of chapter 99 of the Harmonized Tariff Schedule of the United States (HTSUS) is modified by inserting the following new headings in numerical sequence, with the material in the new heading inserted in the columns of the HTSUS labeled “Heading/Subheading”, “Article Description”, “Rates of Duty 1-General”, “Rates of Duty 1-Special” and “Rates of Duty 2”, respectively:

Heading/ subheading | Article description | Rates of duty: 1: General | Rates of duty: 1: Special | Rates of duty: 2
“9903.01.84 | Except for products described in headings 9903.01.85-9903.01.89, articles the product of India that are entered for consumption, or withdrawn from warehouse for consumption, after 12:01 a.m. eastern daylight time on August 27, 2025, as provided for in subdivision (z) of U.S. note 2 to this subchapter | The duty provided in the applicable subheading +25% | The duty provided in the applicable subheading +25% | The duty provided in the applicable subheading.
9903.01.85 | Articles the product of India that (1) were loaded onto a vessel at the port of loading and in transit on the final mode of transit prior to entry into the United States, before 12:01 a.m. eastern daylight time on August 27, 2025; and (2) are entered for consumption, or withdrawn from warehouse for consumption, before 12:01 a.m. eastern daylight time on September 17, 2025 | The duty provided in the applicable subheading | The duty provided in the applicable subheading | The duty provided in the applicable subheading.
9903.01.86 | Articles the product of India, classified in the subheadings enumerated in subdivision (v)(iii) of U.S. note 2 to this subchapter | The duty provided in the applicable subheading | The duty provided in the applicable subheading | The duty provided in the applicable subheading.
9903.01.87 | Articles of iron or steel, derivative articles of iron or steel, articles of aluminum, derivative articles of aluminum, passenger vehicles (sedans, sport utility vehicles, crossover utility vehicles, minivans, and cargo vans) and light trucks and parts of passenger vehicles (sedans, sport utility vehicles, crossover utility vehicles, minivans, and cargo vans) and light trucks, and semi-finished copper and intensive copper derivative products, of India, as provided in subdivision (z)(iii) through (z)(ix) of note 2 to this subchapter | The duty provided in the applicable subheading | The duty provided in the applicable subheading | The duty provided in the applicable subheading.
9903.01.88 | Articles the product of India that are donations, by persons subject to the jurisdiction of the United States, such as food, clothing, and medicine, intended to be used to relieve human suffering, as provided for in subdivision (z)(x) of U.S. note 2 to this subchapter | The duty provided in the applicable subheading | The duty provided in the applicable subheading | The duty provided in the applicable subheading.
9903.01.89 | Articles the product of India that are informational materials, including but not limited to, publications, films, posters, phonograph records, photographs, microfilms, microfiche, tapes, compact disks, CD ROMs, artworks, and news wire feeds | The duty provided in the applicable subheading | The duty provided in the applicable subheading | The duty provided in the applicable subheading”.

2. Effective with respect to goods entered for consumption, or withdrawn from warehouse for consumption, on or after 12:01 a.m. eastern daylight time on August 27, 2025, subchapter III of chapter 99 of the HTSUS is modified by inserting the following new subdivision (z) to U.S. note 2 to subchapter III of chapter 99 of the HTSUS in numerical sequence:

“(z)(i) Except as provided in headings 9903.01.85-9903.01.89, and in subdivisions (z)(ii) through (z)(x) of this note, and other than products for personal use included in accompanied baggage of persons arriving in the United States, heading 9903.01.84 imposes an additional ad valorem rate of duty on imports of all products of India. Notwithstanding U.S. note 1 to this subchapter, all products that are subject to the additional ad valorem rate of duty imposed by this heading shall also be subject to the general rates of duty imposed under subheadings in chapters 1 to 97 of the tariff schedule. Except as provided in subdivisions (z)(ii) through (z)(x) of this note, all products that are subject to the additional ad valorem rate of duty imposed by this heading shall also be subject to any additional duty provided for in this subchapter or subchapter IV of chapter 99. Products that are eligible for special tariff treatment under general note 3(c)(i) to the tariff schedule, or that are eligible for temporary duty exemptions or reductions under subchapter II to chapter 99, shall be subject to the additional ad valorem rate of duty imposed by this heading.

The additional duty imposed by this heading shall not apply to goods for which entry is properly claimed under a provision of chapter 98 of the tariff schedule pursuant to applicable regulations of U.S. Customs and Border Protection (“CBP”), and whenever CBP agrees that entry under such a provision is appropriate, except for goods entered under heading 9802.00.80; and subheadings 9802.00.40, 9802.00.50, and 9802.00.60. For subheadings 9802.00.40, 9802.00.50, and 9802.00.60, the additional duties apply to the value of repairs, alterations, or processing performed, as described in the applicable subheading. For heading 9802.00.80, the additional duties apply to the value of the article assembled abroad, less the cost or value of such products of the United States, as described.

Products that are provided for in heading 9903.01.84 shall continue to be subject to antidumping, countervailing, or other duties, taxes, fees, exactions and charges that apply to such products, as well as to the additional ad valorem rate of duty imposed by this heading.

(ii) As provided in heading 9903.01.86, the additional duties imposed by heading 9903.01.84 shall not apply to articles the product of India classified in the provisions of the HTSUS listed in subdivision (v)(iii) of note 2 to this subchapter.

(iii) The additional duties imposed by heading 9903.01.84 shall not apply to products of iron or steel provided for in headings 9903.81.87 and 9903.81.88.

(iv) The additional duties imposed by heading 9903.01.84 shall not apply to derivative iron or steel products provided for in headings 9903.81.89, 9903.81.90, 9903.81.91, 9903.81.92 and 9903.81.93.

(v) The additional duties imposed by heading 9903.01.84 shall not apply to products of aluminum provided for in heading 9903.85.02.

(vi) The additional duties imposed by heading 9903.01.84 shall not apply to derivative aluminum products provided for in headings 9903.85.04, 9903.85.07, 9903.85.08 and 9903.85.09.

(vii) The additional duties imposed by heading 9903.01.84 shall not apply to passenger vehicles (sedans, sport utility vehicles, crossover utility vehicles, minivans, and cargo vans) and light trucks provided for in headings 9903.94.01 and 9903.94.03.

(viii) The additional duties imposed by heading 9903.01.84 shall not apply to parts of passenger vehicles (sedans, sport utility vehicles, crossover utility vehicles, minivans, and cargo vans) and parts of light trucks provided for in heading 9903.94.05.

(ix) The additional duties imposed by heading 9903.01.84 shall not apply to semi-finished copper and intensive copper derivative products provided for in heading 9903.78.01.

(x) Heading 9903.01.88 covers only products that are donations, by persons subject to the jurisdiction of the United States, of articles, such as food, clothing, and medicine, intended to be used to relieve human suffering, except to the extent that the President determines that such donations (A) would seriously impair his ability to deal with any national emergency declared under section 1701 of title 19 of the U.S. Code, (B) are in response to coercion against the proposed recipient or donor, or (C) would endanger Armed Forces of the United States which are engaged in hostilities or are in a situation where imminent involvement in hostilities is clearly indicated by the circumstances.”

[FR Doc. 2025-16419 Filed 8-25-25; 4:15 pm]

BILLING CODE 9111-14-P